DEPARTMENT OF DEFENSE

Office of the Secretary

Reserve Forces Policy Board; Notice of Federal Advisory Committee Meeting

AGENCY: Under Secretary of Defense for Personnel and Readiness (OUSD(P&R)), Department of Defense (DoD).

ACTION: Notice of Federal advisory committee meeting.

SUMMARY: The DoD is publishing this notice to announce that the following Federal Advisory Committee meeting of the Reserve Forces Policy Board (RFPB) will take place.

DATES: The RFPB will hold a meeting on Wednesday, December 4, 2024, from 9:45 a.m. to 4:00 p.m. Eastern Time. The first portion of the meeting, from 9:45 a.m. to 12:00 p.m., will be closed to the public. The second portion of the meeting, from 1:00 p.m. to 4:00 p.m., will be open to the public.

ADDRESSES: The RFPB meeting will be held in person at the Pentagon Library and Conference Center, Room B6, The Pentagon, Arlington, Virginia 20301.

FOR FURTHER INFORMATION CONTACT: Eric Flowers, Designated Federal Officer (DFO) at Eric.P.Flowers2.civ@mail.mil or 703-697-1795. Mailing address is Reserve Forces Policy Board, 5109 Leesburg Pike, Suite 501, Falls Church, Virginia 22041. The most up-to-date changes to the meeting agenda can be found on the website: https://rfpb.defense.gov/.

SUPPLEMENTARY INFORMATION: This meeting is being held under the provisions of chapter 10 of title 5, United States Code (U.S.C.) (commonly known as the “Federal Advisory Committee Act” or “FACA”), title 5, U.S.C., section 552b (commonly known as the “Government in the Sunshine Act”), and title 41, Code of Federal Regulations (CFR), sections 102-3.140 and 102-3.155.

Due to circumstances beyond the control of the DFO, the RFPB was unable to provide public notification required by 41 CFR 102-3.150(a) concerning its December 4, 2024 meeting. Accordingly, the Advisory Committee Management Officer for the DoD, pursuant to 41 CFR 102-3.150(b), waives the 15-calendar day notification requirement.

Purpose of the Meeting

The purpose of the meeting is to obtain, review, and evaluate relevant information related to strategies, policies, and practices designed to improve and enhance the capabilities, efficiency, and effectiveness of the Reserve Component (RC).

Agenda

The RFPB will hold a meeting which will be closed to the public from 9:45 a.m. to 12:00 p.m. After opening comments by the RFPB's DFO, Military Executive, and Chair, members will receive a classified briefing on vulnerabilities and future capabilities of weapons systems, installations, projects, plans, and Reserve Component protection missions relating to national security. Lieutenant General (Lt. Gen.) Dagvin Anderson, U.S. Air Force, the Director of Joint Force Development for the Joint Staff, will present the classified briefing. The closed session will end at approximately 12:00 p.m. and RFPB members will take a one-hour lunch break. The open portion of the meeting will commence at approximately 1:00 p.m. with opening statements by the RFPB's DFO, Military Executive and Chair. The trio will be followed with a presentation by the Senior Enlisted Advisor to the Assistant Secretary of Defense for Manpower & Reserve Affairs, Sergeant Major (SGM) Stephen Minyard, U.S. Army Reserve (USAR). SGM Minyard will provide his perspective on viable opportunities for strengthening commonalities between the active and reserve components' enlisted workforce. At approximately 2:00 p.m., the chiefs of the seven Reserve Components, or their respective designees, will engage the RFPB members in a roundtable discussion. Invited Reserve Component chiefs include Lieutenant General (LTG) Robert Harter, USAR, Chief, Army Reserve; Vice Admiral Nancy Lacore, U.S. Navy Reserve, Chief, Navy Reserve; Lt. Gen. John Healy, U.S. Air Force Reserve, Chief, Air Force Reserve; Lieutenant General Loni Anderson, U.S. Marine Corps Reserve, Commander, Marine Corps Forces Reserve; LTG Jonathan Stubbs, U.S. Army National Guard, Director, Army National Guard; Major General Duke Pirak, Air National Guard, Director, Air National Guard Director (nominee), and; Rear Admiral Tiffany Danko, Director Coast Guard Reserve. The roundtable discussion will focus on the chiefs' priorities, current readiness and mobilization challenges and their respective approaches for preparing their forces for protracted conflict. The roundtable will entail two forty-five-minute sessions with one fifteen-minute break between each session. At the conclusion of the final session, at approximately 3:45, the RFPB Chair will provide closing comments and then adjourn the meeting.

Meeting Accessibility

In accordance with section 1009(d) of the FACA and 41 CFR 102-3.155, the DoD has determined that between 9:45 a.m. to 12:00 p.m. the meeting will be closed to the public. Specifically, the USD (P&R), in coordination with the DoD FACA Attorney, has determined in writing that this portion of the meeting will be closed to the public because it is likely to disclose classified matters covered by 5 U.S.C. 552b(c)(1). Such classified material is so intertwined with the unclassified material that it cannot reasonably be segregated into separate discussions without defeating the effectiveness and meaning of these portions of the meeting.

Pursuant to section 1009(a)(1) of the FACA and 41 CFR 102-3.140 and 102-3.150, the portions of the meeting from 1:00 p.m. to 4:00 p.m. are open to the public. Members of the public may access the Pentagon Library and Conference Center (PLCC) via the east end of the Pentagon's River Terrace entrance off North Boundary Channel Drive on the northeast side of the Pentagon. Photo identification is required to gain access to the PLCC. Attendees must inform the access control point personnel that their destination is the PLCC to attend the RFPB Quarterly RFPB meeting. For additional meeting access information, contact the DFO as listed in the FOR FURTHER INFORMATION CONTACT section.

Written Statements

Pursuant to 41 CFR 102-3.105(j) and 102-3.140(c), and section 1009(a)(3) of the FACA, the public and interested parties may submit written statements to the RFPB at any time about its approved agenda or at any time on the RFPB's mission. Written statements should be submitted to the RFPB's DFO at the address or email listed in the FOR FURTHER INFORMATION CONTACT section. If statements pertain to a specific topic being discussed at the meeting that is the subject of this notice, then these statements must be submitted no later than one (1) business day prior to the scheduled meeting date. Written statements received after this date may not be provided to or considered by the RFPB until its next scheduled meeting. The DFO will review all timely submitted written statements and provide copies to the RFPB before the meeting that is the subject of this notice. Please note that all submitted comments will be made available for public inspection, including, but not limited to, being posted on the RFPB's website.

Dated: November 20, 2024.
Stephanie J. Bost,
Alternate OSD Federal Register Liaison Officer, Department of Defense.

[FR Doc. 2024-27639 Filed 11-25-24; 8:45 am]

BILLING CODE 6001-FR-P